DEPARTMENT OF LABOR

Mine Safety and Health Administration

Petitions for Modification

The following parties have filed petitions to modify the application of existing safety standards under section 101(c) of the Federal Mine Safety and Health Act of 1977.

1. Genwal Resources, Inc.

[Docket No. M-2005-064-C]

Genwal Resources, Inc., P.O. Box 1077, Price, Utah 84501 has filed a petition to modify the application of 30 CFR 75.901 (Protection of low- and medium-voltage three-phase circuits used underground) to its South Crandall Canyon Mine (MSHA I.D. No. 42-02356) located in Emery County, Utah. The petitioner requests a modification of the existing standard to permit an alternative method of compliance for the grounding of a diesel generator. The petitioner proposes to use a portable diesel generator for utility power and to move electrically powered mobile and stationary equipment throughout the mine. The petitioner asserts that the proposed alternative method would provide at least the same measure of protection as the existing standard.

2. Black Stallion Coal Company

[Docket No. M-2005-065-C]

Black Stallion Coal Company, 500 Lee Street, P.O. Box 1189, Charleston, West Virginia 25324 has filed a petition to modify the application of 30 CFR 75.900 (Low- and medium-voltage circuits serving three-phase alternating current equipment; circuit breakers) to its Black Stallion Mine (MSHA I.D. No. 46-09086) located in Boone County, West Virginia. The petitioner proposes to use the circuit breaker required in 30 CFR 75.900 for short circuit protection only. The contactor will be equipped to provide under-voltage, grounded phase protection, and other protective functions normally provided by the contactor. The petitioner has listed specific terms and conditions in this petition for modification that will be followed when the proposed alternative method is implemented. The petitioner asserts that the proposed alternative method would provide at least the same measure of protection as the existing standard.

3. San Juan Coal Company

[Docket No. M-2005-066-C]

San Juan Coal Company, P.O. Box 561, Waterflow, New Mexico 87421 has filed a petition to modify the application of 30 CFR 75.503 (Permissible electric face equipment; maintenance) and 30 CFR 18.35(a)(5)(i) (Portable (trailing) cables and cords) to its San Juan South Underground Mine (MSHA I.D. No. 29-02170) located in San Juan County, New Mexico. The petitioner requests a modification of the existing standard to permit a higher maximum length on trailing cables for the three-phase, 995-volt continuous mining machine, 995-volt roof bolting machine, 995-volt auxiliary fan and 995-volt breaker. The petitioner asserts that the proposed alternative method would provide at least the same measure of protection as the existing standard.

Request for Comments

Persons interested in these petitions are encouraged to submit comments via Federal eRulemaking Portal: http://www.regulations.gov; E-mail: zzMSHA-Comments@dol.gov; Fax: (202) 693-9441; or Regular Mail/Hand Delivery/Courier: Mine Safety and Health Administration, Office of Standards, Regulations, and Variances, 1100 Wilson Boulevard, Room 2350, Arlington, Virginia 22209. All comments must be postmarked or received in that office on or before November 14, 2005. Copies of these petitions are available for inspection at that address.

Dated: October 5, 2005.
Rebecca J. Smith,
Acting Director, Office of Standards, Regulations, and Variances.

[FR Doc. 05-20448 Filed 10-11-05; 8:45 am]

BILLING CODE 4510-43-P